DEPARTMENT OF ENERGY

Federal Energy Regulatory Commission

Notice of Application Tendered for Filing With the Commission and Soliciting Additional Study Requests

July 8, 2005.

Take notice that the following hydroelectric application has been filed with the Commission and is available for public inspection.

a. Type of Application: Exemption of a small hydroelectric power project, 5 MW or less.

b. Project No.: 12598-000.

c. Date filed: June 24, 2005.

d. Applicant: Birch Power Company

e. Name of Project: Upper Turnbull Drop Hydroelectric Project.

f. Location: On the Spring Valley Canal, in Teton County, Montana, about 4 miles west of Fairfield, Montana. The project would occupy lands of the United States administered by the Bureau of Reclamation.

g. Filed Pursuant to: Public Utility Regulatory Policies Act of 1978, 16 U.S.C. 2705, 2708.

h. Applicant Contact: Ted Sorenson, Sorenson Engineering, 5203 South 11th East, Idaho Falls, ID 83404, (208) 522-8069.

i. FERC Contact: Dianne Rodman, (202) 502-6077, Dianne.rodman@ferc.gov.

j. Cooperating agencies: We are asking Federal, state, local, and tribal agencies with jurisdiction and/or special expertise with respect to environmental issues to cooperate with us in the preparation of the environmental document. Agencies who would like to request cooperating status should follow the instructions for filing comments described in item l below.

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 23, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “e-Filing” link.

m. The application is not ready for environmental analysis at this time.

n. The proposed project would be built at the Spring Valley Canal's Upper Turnbull drop structure, which is a reinforced concrete structure 1,102 feet long, with a total drop of 101.6 feet. The applicant proposes to construct: (1) A check structure, consisting of a spillway gate panel anchored to a ballast concrete structure spanning the full width of the canal floor between new concrete abutment walls; (2) an intake structure to divert flows from the left side of the canal; (3) 84-inch-diameter, 1,100-feet-long steel or polyethylene penstock that would be completely buried; (4) a powerhouse containing two horizontal Francis turbines and one generator with a rated output of 4.1 MW; (5) a draft tube and tailrace discharging flows into the canal about 40 feet downstream of the drop structure's existing stilling basin; (6) a 1.3-mile-long, 12.5-kilovolt (kV) transmission line; (7) a switchyard; and (8) a 1.7-mile-long, 69-kV transmission line extending from the switchyard to interconnect with an existing Sun River Electric Cooperative transmission line. The project would use flows as they are provided in accordance with the needs of the Greenfield Irrigation District, which operates the canal. The project would not impound water and would be operated strictly as a run-of-river plant. Average annual generation would be 11,200,000 kilowatt-hours.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Montana State Historic Preservation Officer (SHPO), as required by § 106, National Historic Preservation Act, and the regulations of the Advisory Council on Historic Preservation, 36 CFR 800.4.

q. Procedural schedule: The application will be processed according to the following Hydro Licensing Schedule. Revisions to the schedule will be made as appropriate.

Issue Deficiency Letter—August 2005.

Issue Acceptance letter—November 2005.

Issue Scoping Document 1 for comments—December 2005.

Issue Scoping Document 2—February 2006.

Notice of application is ready for environmental analysis—February 2006.

Notice of the availability of the EA—August 2006.

Ready for Commission's decision on the application—August 2006.

Magalie R. Salas,
Secretary.

[FR Doc. E5-3731 Filed 7-13-05; 8:45 am]

BILLING CODE 6717-01-P